ENVIRONMENTAL PROTECTION AGENCY

[FRL-6900-9]

Sole Source Aquifer Determination for Western Uinta Arch Paleozoic Aquifer System, Oakley, UT

AGENCY: Environmental Protection Agency (EPA).

ACTION: Notice of final determination.

SUMMARY: Pursuant to section 1424(e) of the Safe Drinking Water Act, the Regional Administrator of the U.S. Environmental Protection Agency (EPA) in Region VIII has determined that the Western Uinta Arch Paleozoic Aquifer System at Oakley, Utah and the immediately adjacent recharge area is the sole or principal source of drinking water for the region. The region is located in central Utah extending from near the City of Oakley, Utah east encompassing approximately 23,000 acres in Townships 1 South and 1 North and Ranges 6 to 8 East SLB&M. The area is irregularly shaped with maximum dimensions of about 14 miles from southwest to northeast and approximately 3 miles from northwest to southeast. The entire area is within Summit County, Utah. No viable alternative sources of drinking water with sufficient supply exist. If this aquifer is contaminated, a significant hazard to public health would occur.

The boundaries of the designated area have been reviewed and approved by EPA. As a result of this action, federal financially assisted projects constructed in the approximately 40 square mile area mentioned above will be subject to EPA review to ensure that these projects are designed and constructed in a manner which does not create a significant hazard to public health. For the purposes of this designation the Aquifer Service Area and the Project Review Area are the same as the Designated Area.

DATES: This determination shall be promulgated for purposes of judicial review at 1:00 p.m. Mountain Standard Time on December 1, 2000.

ADDRESSES: The data upon which these findings are based, and a map of the designated area are available to the public and may be inspected during normal business hours at the U.S. Environmental Protection Agency, Region VIII, 999 18th Street, Suite 300, Denver, CO 80202-2466.

FOR FURTHER INFORMATION CONTACT: William J. Monheiser, Regional Sole Source Aquifer Coordinator, Ground Water Program, 8P-W-GW, USEPA Region VIII, 999 18th Street, Suite 300, Denver, Colorado 80202-2466, Phone: 303.312.6271, Fax: 303.312.7084, e-mail: monheiser.william@epa.gov.

SUPPLEMENTARY INFORMATION: Notice is hereby given that, pursuant to section 1424(e) of the Safe Drinking Water Act, 42 U.S.C. 300f, 300h-3(e), Public Law 93-523 as amended, the Regional Administrator of the U.S. Environmental Protection Agency (EPA) has determined that the Western Uinta Arch Paleozoic Aquifer System is the sole or principal source of drinking water for the Oakley area of central Utah described above. Pursuant to section 1424(e), federal financially assisted projects constructed anywhere in the Oakley, Utah area described above will be subject to EPA review.

I. Background

Section 1424(e) of the Safe Drinking Water Act states:

If the Administrator determines, on his own initiative or upon petition, that an area has an aquifer which is the sole or principal drinking water source for the area and which, if contaminated, would create a significant hazard to public health, he shall publish notice of that determination in the Federal Register. After the publication of any such notice, no commitment for federal financial assistance (through a grant, contract, loan guarantee, or otherwise) may be entered into for any project which the Administrator determines may contaminate such aquifer through a recharge zone so as to create a significant hazard to public health, but a commitment for federal financial assistance may, if authorized under another provision of the law, be entered into to plan or design the project to assure that it will not so contaminate the aquifer.

Effective March 9, 1987, authority to make a Sole Source Aquifer Designation Determination was delegated to the U.S. EPA Regional Administrators.

On August 26, 1999, a petition was received from the City of Oakley, Utah, P.O. Box 129, Oakley, Utah 84055, requesting that EPA designate the ground water resources of the Western Uinta Arch Paleozoic Aquifer System near the City of Oakley as a Sole Source Aquifer. In response to this petition, EPA published a notice of a Public Meeting held at the Oakley City offices on May 10, 2000. This notice was published in the Park City Record, a newspaper of general circulation in the area. EPA also sent copies of the notice with descriptive information to all postal patrons in the Oakley area. This notice announced receipt of the petition and requested public comment in writing or oral comments at the public meeting held May 10, 2000 and for a 30 day comment period following the meeting. Comments received by telephone, Fax and e-mail were also accepted. The public comment period extended from May 11, 2000 to June 15, 2000.

Subsequently, EPA determined that the petition is both administratively and technically complete and adequate.

II. Basis for Determination

Among the factors considered by the Regional Administrator for designation of a Sole Source Aquifer under section 1424(e) are: (1) Whether the aquifer is the area's sole or principal source of drinking water, (2) if the designated area has been adequately delineated and, (3) whether contamination of the aquifer would create a significant hazard to public health.

On the basis of information available to EPA, the Regional Administrator has made the following findings of fact, which are the basis for this determination:

1. The Western Uinta Arch Paleozoic Aquifer System serves as the “sole source” of drinking water for approximately 1,005 permanent residents within the City of Oakley. There is no existing alternative drinking water source or combination of sources which could provide fifty percent or more of the drinking water to the designated area, nor is there any projected future alternative source capable of supplying the area's drinking water needs at an economical cost.

2. Although the Paleozoic Aquifer System underlies much of central Utah, in the Oakley area the aquifer is isolated, of very high quality, able to be used as a drinking water source with minimal treatment required by the State of Utah. This constitutes a resource limited to this immediate area that if contaminated would create a significant hazard to public health. Potential sources of contamination include: (1) Petroleum, mineral exploration, and geophysical drilling, (2) accidental spills along roadways, (3) abandoned but unplugged petroleum, mineral and geophysical wells, tunnels and (4) non-sustainable forestry practices.

III. Description of the Petitioned Aquifer

The designated area of the Paleozoic Aquifer System near the City of Oakley encompasses about 23,000 acres in an irregularly shaped area approximately 14 miles long by approximately 3 miles wide. Drinking water production is from three developed springs in the Park City Formation and one drilled artesian well in the Doughnut and Humbug Formations. Combined production can be greater than 1000 gallons per minute. Flow is from fractures located within the limestones of the Park City, Doughnut and Humbug Formations. The Paleozoic Aquifer System is composed of the Park City, Weber, Morgan, Round Valley, Doughnut, and Humbug Formations of Permian and Mississippian ages. The boundaries of the aquifer were determined by hydrogeologic mapping of the area, which is interpreted to contribute water to the springs and well.

IV. Information Utilized in Determination

The information utilized in this determination includes the petition from the City of Oakley, review of available literature, and the results of ground water investigations conducted to date on the ground water resources of the area. These data are available to the public and may be inspected during normal business hours at EPA Region VIII, 999 18th Street, Suite 330, Denver, Colorado 80202-2466.

V. Project Review

EPA, Region VIII, will work with the Federal Agencies that may, in the future, provide financial assistance to projects in the designated area. Interagency procedures will be developed in which EPA will be notified of proposed commitments by federal agencies for projects which could contaminate the aquifer. EPA will evaluate such projects and, where necessary, conduct an in-depth review, including soliciting public comments where appropriate. Should EPA determine that a project may contaminate the aquifer, so as to create a significant hazard to public health, no commitment for federal assistance may be entered into. However, a commitment for federal assistance may, if authorized under another provision of law, be entered into to plan or design the project to assure that it will not contaminate the aquifer.

Although the project review process cannot be delegated to state or local agencies, the EPA will rely upon any existing or future state and local control mechanisms to the maximum extent possible in protecting the ground-water quality of the aquifer. Included in the review of any federal financially assisted project will be coordination with local agencies. Their comments will be given full consideration, and the Federal review process will attempt to complement and support state and local ground water quality protection mechanisms.

VI. Summary and Discussion of Public Comments

In response to the Public Notice and Public Meeting, three questions were asked during the public meeting, all requesting clarification of “federal financial assistance.” Further clarification of “federal financial assistance” was contained in the Responsiveness Summary. No questions or comments were received during the 30 day comment period. No comments objecting to designation were received during any portion of public participation phase of the petition review process.

No data were presented during the public comment period regarding aquifer characteristics, boundary delineation or potential errors of fact presented in the petition.

VII. Economic and Regulatory Impact

Pursuant to the provisions of the Regulatory Flexibility Act (RFA), 5 U.S.C. 605(b), I hereby certify that this designation will not have a significant impact on a substantial number of small entities. For purposes of this Certification, “small entity” shall have the same meaning as given in section 601 of the RFA. This action is only applicable to projects with the potential to impact the Western Uinta Arch Paleozoic Aquifer System Sole Source Aquifer as designated.

The only affected entities will be those businesses, organizations or governmental jurisdictions that request federal financial assistance for projects which have the potential for contaminating the Sole Source Aquifer so as to create a significant hazard to public health. EPA does not expect to be reviewing small isolated commitments of financial assistance on an individual basis, unless a cumulative impact on the aquifer is anticipated; accordingly, the number of affected small entities will be minimal.

For those small entities which are subject to review, the impact of today's action will not be significant. Many projects subject to this review will be preceded by a ground water impact assessment required pursuant to other federal laws, such as the National Environmental Policy Act (NEPA) as amended 42 U.S.C. 4321, et seq. Integration of those related review procedures with sole source aquifer review will allow EPA and other federal agencies to avoid delay or duplication of effort in approving financial assistance, thus minimizing any adverse effects on those small entities which are affected. Finally, today's action does not prevent grants of federal financial assistance which may be available to any affected small entity in order to pay for the redesign of the project to assure protection of the aquifer.

Under Executive Order 12866, EPA must judge whether a regulation is “major” and therefore subject to the requirement of a Regulatory Impact Analysis. This regulation is not major because it will not have an annual effect of $100 million or more on the economy, will not cause any major increase in costs or prices and will not have significant adverse effects on competition, employment, investment, productivity, innovation, or the ability of United States enterprises to compete in domestic or export markets. Today's action only affects the Western Uinta Arch Paleozoic Aquifer System in Summit County, Utah. It provides an additional review of ground water protection measures, incorporating state and local measures whenever possible, for only those projects which request federal financial assistance.

Dated: November 16, 2000.
William P. Yellowtail,
Regional Administrator, Region VIII.

[FR Doc. 00-30634 Filed 11-30-00; 8:45 am]

BILLING CODE 6560-50-U